DEPARTMENT OF HOUSING AND URBAN DEVELOPMENT

[Docket No. FR-4950-FA-18]

Announcement of Funding Awards for Fiscal Year 2005 Fair Housing Initiatives Program

AGENCY: Office of the Assistant Secretary for Fair Housing and Equal Opportunity, HUD.

ACTION: Announcement of funding awards.

SUMMARY: In accordance with section 102(a)(4)(C) of the Department of Housing and Urban Development Reform Act of 1989, this document notifies the public of funding awards for the Fiscal Year 2005 Fair Housing Initiatives Program (FHIP). The purpose of this document is to announce the names, addresses and the amount awarded to the winners under the FHIP competition. The purpose of FHIP is also to increase compliance with the Fair Housing Act and with substantially equivalent state and local fair housing laws.

FOR FURTHER INFORMATION CONTACT: Myron P. Newry, Director, FHIP Support Division, U.S. Department of Housing and Urban Development, 451 Seventh Street, SW., Room 5228, Washington, DC 20410-2000, telephone (202) 708-0614, ext. 7095. To provide service for persons who are hearing- or speech-impaired, this number may be reached via TTY by dialing the Federal Information Relay Service on (800) 877-8339 or (202) 708-1455. Telephone numbers, other than “800” TTY numbers are not toll free.

SUPPLEMENTARY INFORMATION: The Fair Housing Initiatives Program statute (Sec. 561 of the 1987 Housing and Community Development Act, as amended in 1992) authorizes the Secretary to make funds available through grant agreements or by contract in support of activities that assure compliance with the Fair Housing Act and substantially equivalent state and local fair housing laws. FHIP provides competitive funding under three of the four Initiatives: (1) Private Enforcement Initiative assists private tax-exempt fair housing enforcement organizations in the investigation and enforcement of alleged violations of the Fair Housing Act and substantially equivalent state and local fair housing laws, (2) Education and Outreach Initiative assists projects that inform the public about their rights and obligations under the Fair Housing Act and with substantially equivalent state and local fair housing laws, and (3) Fair Housing Organizations Initiative provides assistance to a project that will establish or build the capacity of a start up fair housing organization to become a viable fair housing enforcement organization that will conduct fair housing activities in underserved areas. The fourth initiative, Administrative Enforcement Initiative is currently not being used.

The Catalog of Federal Domestic Assistance number for this program is 14-408.

On March 21, 2005 (70 FR 13722), HUD published a Notice of Funding Availability (NOFA) announcing the availability of $18.040 million in competitive funding allocated to the three Initiatives as follows: Private Enforcement Initiative—$13,000,000, Education and Outreach Initiative—$3,940,000, and Fair Housing Organizations Initiative—$1,100,000. This initial Federal Register NOFA had a closing date for FHIP of May 23, 2005. On May 25, 2005, a notice was published in the Federal Register allowing a grace period that extended the deadline date for FHIP until June 6, 2005.

The Department reviewed, evaluated, and scored the applications received based on the criteria in the NOFA. As a result, HUD has funded the applications below, in accordance with section 102(a)(4)(C) of the Department of Housing and Urban Development Reform Act of 1989 (103 Stat. 1987, 42 U.S.C., 3545). One awardee, Disability Law Center of Salt Lake City, Utah, was funded ($75,252.80) under FY 2005 funding from a previous year's competition as a result of an administrative error.

List of Awardees Under the FY 2005 Fair Housing Initiatives Program Funding Competition, by Initiative, Organization, and Grant Amount
Organization name | Award amount (in dollars)
Education and Outreach Initiative
Disability Law Center, Salt Lake City, UT | $75,252.80
United Neighborhood Center of Lackawanna County, Scranton, PA | 82,603.00
Legal Aid Services of Oregon, Portland, OR | 100,000.00
Legal Services of Northern California, Inc., Woodland, CA | 100,000.00
Citizens Action of New Jersey, Hackensack, NJ | 100,000.00
Coalition on Homelessness and Housing in Ohio, Columbus, OH | 100,000.00
Champlain Valley Office of Economic Opportunity, Burlington, VT | 100,000.00
Office of Human Affairs, Newport News, VA | 58,215.00
Prairie State Legal Services, Inc., Rockford, IL | 100,000.00
City of San Antonio, San Antonio, TX | 30,135.00
United Spinal Association, Jackson Heights, NY | 99,643.00
St. Martin Center, Fair Housing, Erie, PA | 99,956.00
Neighborhood Economic Development Advocacy Project, New York, NY | 100,000.00
Advocacy Center, New Orleans, LA | 100,000.00
University of Southern Mississippi, Hattiesburg, MS | 100,000.00
Aids Legal Referral Panel of San Francisco, San Francisco, CA | 70,222.00
Piedmont Housing Alliance, Charlottesville, VA | 72,363.00
Mental Health Advocacy Services, Inc., Los Angeles, CA | 100,000.00
JC Vision and Associates, Inc., Hinesville, GA | 99,990.00
Arkansas Community Housing Corporation, Little Rock, AR | 100,000.00
Housing Council in the Monroe County Area, Rochester, NY | 77,110.00
Housing Authority of the City of Fresno, Fresno, CA | 100,000.00
Howard University, Washington, DC | 99,997.00
Fair Housing Agency of Alabama, Mobile, AL | 97,905.00
La Raza Centro Legal, San Francisco, CA | 100,000.00
Housing Counseling Services, Inc., Washington, DC | 100,000.00
Greater Napa Fair Housing Center, Napa, CA | 99,990.00
Legal Services of North Florida, Inc., Tallahassee, FL | 100,000.00
Asian Pacific American Legal Center of California, Los Angeles, CA | 100,000.00
American Institute for Social Justice, Washington, DC | 100,000.00
ByDesign Financial Solutions, Los Angeles, CA | 100,000.00
Waccamaw Regional Council of Governments, Georgetown, SC | 98,915.00
City of Billings—Community Development, Billings, MT | 92,879.00
AAFE Community Development Fund, New York, NY | 100,000.00
Missouri Tax Justice Research Project, St. Louis, MO | 100,000.00
Elizabeth City State University, Elizabeth City, NC | 99,968.00
ACORN Housing, St. Paul, MN | 100,000.00
New York Agency for Community Affairs, Brooklyn, NY | 99,975.00
Legal Aid Society of Palm Beach County, West Palm Beach, FL | 100,000.00
Virginia Office for Protection and Advocacy, Richmond, VA | 100,000.00
Total Action Against Poverty in Roanoke, Roanoke, VA | 87,928.62
ACORN Institute, Dallas, TX | 96,952.58
Fair Housing Organizations Initiative
Housing Discrimination Project, Holyoke, MA | 500,000.00
Private Enforcement Initiative
Fair Housing Council of Central California, Fresno, CA | 220,000.00
Fair Housing Center of Greater Grand Rapids, Grand Rapids, MI | 218,244.00
Housing Opportunities Made Equal, Inc., Buffalo, NY | 218,930.40
Fair Housing Council Montgomery County, Glenside, PA | 270,000.00
Tennessee Fair Housing Council, Nashville, TN | 219,542.40
Arizona Fair Housing Center, Phoenix, AZ | 219,535.20
Fair Housing Council of Suburban Philadelphia, Inc., Swarthmore, PA | 275,000.00
Housing Opportunities Made Equal of G. Cincinnati, Cincinnati, OH | 219,762.64
Family Housing Advisory Services, Inc., Omaha, NE | 275,000.00
Fair Housing Center of South Puget Sound, Tacoma, WA | 275,000.00
Jacksonville Area Legal Aid, Inc., Jacksonville, FL | 274,972.67
Housing Research & Advocacy Center, Cleveland, OH | 220,000.00
South Suburban Housing Center, Homewood, IL | 262,500.00
Inland Fair Housing and Mediation Board, Ontario, CA | 219,999.20
Fair Housing Resource Center, Inc., Painesville, OH | 220,000.00
Legal Aid Society of Minneapolis, Minneapolis, MN | 220,000.00
Gulfcoast Legal Services, Inc., St. Petersburg, FL | 220,000.00
Connecticut Fair Housing Center, Inc., Hartford, CT | 220,000.00
Chicago Lawyers' Committee for Civil Rights, Chicago, IL | 219,960.80
Intermountain Fair Housing Council, Boise, ID | 219,399.20
South Brooklyn Legal Services, Inc., Brooklyn, NY | 220,000.00
California Rural Legal Assistance, Inc., San Francisco, CA | 220,000.00
North Dakota Fair Housing Council, Bismarck, ND | 188,538.40
Legal Aid Society of Hawaii, Honolulu, HI | 220,000.00
Fair Housing of Marin, San Rafael, CA | 220,000.00
Pine Tree Legal Assistance, Inc., Portland, ME | 220,000.00
Project Sentinel, Palo Alto, CA | 214,568.80
Miami Valley Fair Housing Center, Inc., Dayton, OH | 220,000.00
Fair Housing Center of Northern Alabama, Birmingham, AL | 220,000.00
Silver State Fair Housing Council, Reno, NV | 203,629.00
John Marshall Law School, Chicago, IL | 219,973.60
Fair Housing Continuum, Inc., Cocoa, FL | 275,000.00
Bay Area Legal Services, Inc., Tampa, FL | 127,467.89
Legal Assistant Corp. of Central Massachusetts, Worcester, MA | 220,000.00
Access Living of Metropolitan Chicago, Chicago, IL | 220,000.00
Metro St. Louis Equal Housing Opportunity Council, St. Louis, MO | 220,000.00
Metropolitan Milwaukee Fair Housing Council, Milwaukee, WI | 274,996.00
Gulf Coast Fair Housing Center, Gulfport, MS | 220,000.00
HOPE Fair Housing Center, Wheaton, IL | 274,702.33
Fair Housing Center of Greater Boston, Inc., Boston, MA | 274,166.67
Metro Fair Housing Services, Inc., East Point, GA | 216,894.40
Montana Fair Housing, Inc., Missoula, MT | 220,000.00
Central Alabama Fair Housing Center, Montgomery, AL | 219,200.00
Northwest Fair Housing Alliance, Spokane, WA | 220,000.00
Austin Tenants Council, Inc., Austin, TX | 219,487.20
Westchester Residential Opportunities, Inc., White Plains, NY | 202,048.00
Lexington Fair Housing Council, Lexington, KY | 205,258.00
Fair Housing Center of Southwest Michigan, Kalamazoo, MI | 199,209.60
Housing Discrimination Project, Inc., Holyoke, MA | 220,000.00
Equal Rights Center, Washington, DC | 220,000.00
Sentinel Fair Housing, Oakland, CA | 219,432.00
West Tennessee Legal Services, Inc., Jackson, TN | 275,000.00
Long Island Housing Services, Inc., Bohemia, NY | 220,000.00
Fair Housing Partnership of Greater Pittsburgh, Inc., Pittsburgh, PA | 220,000.00
San Antonio Fair Housing Council, San Antonio, TX | 219,997.60
Fair Housing Contact Service, Akron, OH | 220,000.00
Metro Fair Housing Council of Greater Oklahoma, Oklahoma City, OK | 217,724.00
Bay Area Legal Aid, Oakland, CA | 220,000.00
Housing Advocates, Inc., Cleveland, OH | 217,640.00
Fair Housing Center of Metropolitan Detroit, Detroit, MI | 112,360.80
Savannah-Chatham County Fair Housing Council, Savannah, GA | 134,859.20

Dated: November 14, 2005.
Kim Kendrick,
Assistant Secretary for Fair Housing and Equal Opportunity.

[FR Doc. E5-7268 Filed 12-12-05; 8:45 am]

BILLING CODE 4210-28-P